DEPARTMENT OF JUSTICE

Antitrust Division

Notice Pursuant to the National Cooperative Research and Production Act of 1993—Cooperative Research Group on Clean Diesel V

Notice is hereby given that, on February 27, 2008, pursuant to Section 6(a) of the National Cooperative Research and Production Act of 1993, 15 U.S.C. 4301 et seq. (“the Act”), Southwest Research Institute—Cooperative Research Group on Clean Diesel V (“Clean Diesel V”) has filed written notifications simultaneously with the Attorney General and the Federal Trade Commission disclosing changes in its membership. The notifications were filed for the purpose of extending the Act's provisions limiting the recovery of antitrust plaintiffs to actual damages under specified circumstances. Specifically, Borgwarner, Auburn Hills, MI; Corning, Inc., Corning, NY; Delphi, Troy, MI; Federal Mogul, Inc., Plymouth, MI; Ford Motor Company, Dearborn, MI; Guangxi Yuchai Machinery Co., Ltd., Guangxi, People's Republic of China; Honda R&D Co., Ltd., Tochigi Prefecture, Japan; Honeywell International Inc., Torrance, CA; Iveco Motorenforschung AG, Arbon, Switzerland; John Deere, Waterloo, IA; Umicore, Catoosa, OK; Volvo Powertrain Corp., Gotenborg, Sweden; Cummins Engine Co., Columbus, IN and Deutz, AG Cologne, Germany have been added as parties to this venture. No other changes have been made in either the membership or planned activity of the group research project. Membership in this group research project remains open, and Clean Diesel V intends to file additional written notifications disclosing all changes in membership.

On January 10, 2008, Clean Diesel V filed its original notification pursuant to Section 6(a) of the Act. The Department of Justice published a notice in the Federal Register pursuant to Section 6(b) of the Act on February 25, 2008, (73 FR 10064).

Patricia A. Brink,
Deputy Director of Operations, Antitrust Division.

[FR Doc. E8-7001 Filed 4-4-08; 8:45 am]

BILLING CODE 4410-11-M